ENVIRONMENTAL PROTECTION AGENCY

40 CFR Parts 51 and 52

[EPA-HQ-OAR-2004-0014; FRL-4940.2-04-OAR]

Prevention of Significant Deterioration (PSD) and Nonattainment New Source Review (NNSR): Reconsideration of Fugitive Emissions Rule; Extension of Comment Period

AGENCY: Environmental Protection Agency (EPA).

ACTION: Proposed rule; extension of comment period.

SUMMARY: On October 14, 2022, the Environmental Protection Agency (EPA) proposed a rule titled, “Prevention of Significant Deterioration (PSD) and Nonattainment New Source Review (NNSR): Reconsideration of Fugitive Emissions Rule,” FR Doc 2022-22259. The EPA has received a request for additional time to review and comment on the proposed rule revisions. The EPA is extending the comment period on the proposed rule that was scheduled to close on December 13, 2022, for sixty days.

DATES: The public comment period for the proposed rule published in the Federal Register on October 14, 2022 (87 FR 62322), is being extended for sixty days. Written comments must be received on or before February 14, 2023.

ADDRESSES: The EPA has established docket number EPA-HQ-OAR-2004-0014 for this action. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions and general guidance on making effective comments, please visit http://www2.epa.gov/dockets/commenting-epa-dockets.

FOR FURTHER INFORMATION CONTACT: For additional information on this action, contact Mr. Ben Garwood, Air Quality Policy Division, Office of Air Quality Planning and Standards (C539-01), Environmental Protection Agency, 109 TW Alexander Drive, Research Triangle Park, NC 27711; telephone number: (919)-541-1358; email address: Garwood.ben@epa.gov.

SUPPLEMENTARY INFORMATION: After considering the requests to extend the public comment period received from various parties, the EPA has decided to extend the public comment period until February 14, 2023. This extension will ensure that the public has additional time to review the proposed rule. At the party's request, the EPA will add a redline/strikeout of the rule text to the docket. This will provide specificity and clarity to the proposed rule text changes.

Scott Mathias,
Director, Air Quality Policy Division, Office of Air Quality Planning and Standards.

[FR Doc. 2022-24662 Filed 11-10-22; 8:45 am]

BILLING CODE 6560-50-P